DEPARTMENT OF AGRICULTURE

Grain Inspection, Packers and Stockyards Administration

Amendment to Certification of Central Filing System—Oklahoma

The Statewide central filing system of Oklahoma has been previously certified, pursuant to Section 1324 of the Food Security Act of 1985, on the basis of information submitted by the Oklahoma Secretary of State, for farm products produced in that State (52 FR 49056, December 29, 1987).

The certification is hereby amended on the basis of information submitted in a May 23, 2000 letter by Anita Charlson, Supervisor, Central Filing System for Agriculture Liens, for additional farm products used or produced in farming operations, or a product of such crop or livestock in its unmanufactured state that is in the possession of a person engaged in farming operations in that State as follows: echinacea, broccoli, eggplant.

This is issued pursuant to authority delegated by the Secretary of Agriculture.

Authority: Sec. 1324(c)(2), Pub. L. 99-198, 99 Stat. 1535, 7 U.S.C. 1631(c)(2); 7 CFR 2.22(a)(3)(v), 2.81(a)(5), 55 FR 22795.

Dated: June 23, 2000.
John Stencel,
Acting Deputy Administrator, Packers and Stockyards Programs.

[FR Doc. 00-16540 Filed 6-29-00; 8:45 am]

BILLING CODE 3410-EN-M